DEPARTMENT OF THE INTERIOR

National Park Service

Notice of Inventory Completion: Central Washington University, Department of Anthropology and Museum, Ellensburg, WA, and Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary objects in the control of the Central Washington University, Department of Anthropology and Museum, Ellensburg, WA, and Thomas Burke Memorial Washington State Museum (Burke Museum), University of Washington, Seattle, WA. The human remains and associated funerary objects were removed from a site upriver from the McNary Dam in Benton County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Burke Museum and Central Washington University professional staff in consultation with representatives of the Confederated Tribes and Bands of the Yakama Nation, Washington; Confederated Tribes of the Colville Reservation, Washington; Confederated Tribes of the Umatilla Reservation, Oregon; and Confederated Tribes of the Warm Springs Reservation of Oregon.

In 1965, human remains representing a minimum of two individuals were removed from a rock shelter approximately six miles east of the McNary Dam (possibly site 45BN5) in Benton County, WA, by Ray Dunn and Fred Hendrix. Mr. Dunn and Mr. Hendrix donated the human remains to the Burke Museum in 1966 (Burke Accn. #1966-11). A portion of the human remains were transferred from the Burke Museum to Central Washington University in 1974. No known individuals were identified. The 107 associated funerary objects are 102 shell beads, 1 piece of cordage, and 4 wood fragments.

Early and late ethnographic sources identify the area six miles east of the McNary Dam area territory of the Cayuse, Walla Walla, and Umatilla tribes (Hale 1841; Stern 1998; Ray 1936). The Cayuse, Walla Walla, and Umatilla were separate tribes prior to the treaty on June 9, 1855, but were removed to the Umatilla Reservation under the terms of the Walla Walla Treaty. The three tribes were officially confederated in 1949.

The area east of McNary Dam was heavily utilized by the Umatilla, including the spring and summer camp tu'woyepa on the Oregon side of the Columbia River (Ray 1936), the Umatilla fishing site wanaket (Lane and Lane 1979), and the small fishing village xululupa on the Washington side of the Columbia River (Ray 1936). The human remains evidence extreme dental attrition, a trait that is common for Columbia plateau populations. The practice of burying individuals with personal belongings, including shell beads, is consistent with documented prehistoric and historic practices of the tribes that are members of the present-day Confederated Tribes of the Umatilla Reservation, Oregon. The area six miles east from the McNary Dam is within the aboriginal territory of the Confederated Tribes of the Umatilla Reservation, Oregon as determined by the Indian Claims Commission.

The human remains have been determined to be Native American based on geographic, historical, and osteological evidence, and culturally affiliated to the Confederated Tribes of the Umatilla Reservation, Oregon.

Officials of the Burke Museum and Central Washington University have determined that, pursuant to 25 U.S.C. 3001 (9-10), the human remains described above represent the physical remains of two individuals of Native American ancestry. Officials of the Burke Museum and Central Washington University also have determined that, pursuant to 25 U.S.C. 3001 (3)(A), the 107 objects described above are reasonably believed to have been placed with or near individual human remains at the time of death or later as part of the death rite or ceremony. Lastly, officials of the Burke Museum and Central Washington University have determined that, pursuant to 25 U.S.C. 3001 (2), there is a relationship of shared group identity that can be reasonably traced between the Native American human remains and associated funerary objects and the Confederated Tribes of the Umatilla Reservation, Oregon.

Representatives of any other Indian tribe that believes itself to be culturally affiliated with the human remains and associated funerary objects should contact Dr. Peter Lape, Burke Museum, University of Washington, Box 353010, Seattle, WA 98195-3010, telephone (206) 685-2282 or Lourdes Henebry-DeLeon, NAGPRA Program Director, Department of Anthropology and Museum, Central Washington University, Ellensburg, WA 98926-7544, telephone (509) 963-2671, before March 9, 2007. Repatriation of the human remains and associated funerary objects to the Confederated Tribes of the Umatilla Reservation, Oregon may proceed after that date if no additional claimants come forward.

The Burke Museum is responsible for notifying the Confederated Tribes and Bands of the Yakama Nation, Washington; Confederated Tribes the Colville Reservation, Washington; Confederated Tribes of the Umatilla Reservation, Oregon; and Confederated Tribes of the Warm Springs Reservation of Oregon that this notice has been published.

Dated: January 18, 2007.
Sherry Hutt,
Manager, National NAGPRA Program.

[FR Doc. E7-1971 Filed 2-6-07; 8:45 am]

BILLING CODE 4312-50-S